DEPARTMENT OF HEALTH AND HUMAN SERVICES

Food and Drug Administration

[Docket No. FDA-2009-N-0360]

Agency Information Collection Activities; Proposed Collection; Comment Request; Food and Drug Administration Safety Communication Readership Survey; Withdrawal of Notice

AGENCY: Food and Drug Administration, HHS.

ACTION: Notice; withdrawal.

SUMMARY: The Food and Drug Administration (FDA) is announcing the withdrawal of a notice that was published in the Federal Register of March 6, 2020.

DATES: The notice is withdrawn on April 16, 2020.

FOR FURTHER INFORMATION CONTACT: Ila S. Mizrachi, Office of Operations, Food and Drug Administration, Three White Flint North, 10A63, 11601 Landsdown St., North Bethesda, MD 20852, 301-796-7726, PRAStaff@fda.hhs.gov.

SUPPLEMENTARY INFORMATION: In a notice published in the Federal Register of March 6, 2020 (85 FR 13171), “Agency Information Collection Activities; Proposed Collection; Comment Request; Food and Drug Administration Safety Communication Readership Survey,” FDA requested comment on the information collection associated with Safety Communication Readership Surveys.

Under the Paperwork Reduction Act of 1995 (the PRA), Federal Agencies are required to publish notice in the Federal Register concerning each proposed collection of information, including each proposed extension of an existing collection of information, and to allow 60 days for public comment in response to the notice.

In the March 6, 2020, Federal Register document, FDA proposed to extend the information collection related to the Safety Communication Readership Survey (OMB control number 0910-0341). However, we are withdrawing the notice because, upon further review of the information collection request (ICR), we have determined that it is more appropriate to include the estimated burden expressed in the Safety Communication Readership Survey ICR in the “generic” ICR for “Testing Communications on Medical Devices and Radiation-Emitting Products” (OMB control number 0910-0678).

Because we intend to submit information collections for safety communication readership surveys under the generic information collection approval, OMB control number 0910-0678, we will discontinue the ICR for OMB control number 0910-0341 and we are withdrawing the March 6, 2020, document requesting comment on the information collection.

Dated: April 8, 2020.
Lowell J. Schiller,
Principal Associate Commissioner for Policy.

[FR Doc. 2020-08004 Filed 4-15-20; 8:45 am]

BILLING CODE 4164-01-P